DEPARTMENT OF COMMERCE

Patent and Trademark Office

Representative and Address Provisions

ACTION: Proposed collection; comment request.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before August 25, 2008.

ADDRESSES: You may submit comments by any of the following methods:

• E-mail: Susan.Fawcett@uspto.gov. Include “0651-0035 comment” in the subject line of the message.

• Fax: 571-273-0112, marked to the attention of Susan Fawcett.

• Mail: Susan K. Fawcett, Records Officer, Office of the Chief Information Officer, Customer Information Services Group, Public Information Services Division, United States Patent and Trademark Office, P.O. Box 1450, Alexandria, VA 22313-1450.

• Federal Rulemaking Portal: http://www.regulations.gov.

FOR FURTHER INFORMATION CONTACT: Requests for additional information should be directed to Robert A. Clarke, Director, Office of Patent Legal Administration, United States Patent and Trademark Office, P.O. Box 1450, Alexandria, VA 22313-1450; by telephone at 571-272-7735; or by e-mail to Robert.Clarke@uspto.gov.

SUPPLEMENTARY INFORMATION:

I. Abstract

Under 35 U.S.C. 2 and 37 CFR 1.31-1.36, a patent applicant or assignee of record may grant power of attorney to a person who is registered to practice before the United States Patent and Trademark Office (USPTO) to act for them in a patent or application. A power of attorney may also be revoked, and a registered practitioner may also withdraw as attorney or agent of record under 37 CFR 1.36. The rules of practice (37 CFR 1.33) also provide for the applicant, assignee, or practitioner of record to supply a correspondence address and daytime telephone number for receiving notices, official letters, and other communications from the USPTO. Maintaining a correct and updated correspondence address is necessary so that official correspondence from the USPTO related to a patent or application will be properly received by the applicant, assignee, or practitioner.

The USPTO's Customer Number practice permits applicants, assignees, and practitioners of record to change the correspondence address or representatives of record for a number of patents or applications with one change request instead of filing separate requests for each patent or application. Customers may request a Customer Number from the USPTO and associate this Customer Number with a correspondence address or a list of registered practitioners. Any changes to the address or practitioner information associated with a Customer Number will be applied to all patents and applications associated with that Customer Number.

The Customer Number practice is optional, in that changes of correspondence address or power of attorney may be filed separately for each patent or application without using a Customer Number. However, a Customer Number associated with the correspondence address for a patent application is required in order to access private information about the application using the Patent Application Information Retrieval (PAIR) system, which is available through the USPTO Web site. The PAIR system allows authorized individuals secure online access to application status information, but only for patent applications that are linked to a Customer Number. Customer Numbers may be associated with U.S. patent applications as well as international Patent Cooperation Treaty (PCT) applications. The use of a Customer Number is also required in order to grant power of attorney to more than ten practitioners or to establish a separate “fee address” for maintenance fee purposes that is different from the correspondence address for a patent or application.

In addition to the forms offered by the USPTO to assist customers with providing the information in this collection, customers may also format requests using a Customer Number Upload Spreadsheet to designate or change the correspondence address or fee address for a list of patents or applications by associating them with a Customer Number. The Customer Number Upload Spreadsheet must be submitted to the USPTO on a computer-readable diskette or compact disc (CD), accompanied by a signed cover letter requesting entry of the address changes for the listed patents and applications. The spreadsheet and cover letter must be mailed to the USPTO and cannot be filed electronically. Customers may download a Microsoft Excel template with instructions from the USPTO Web site to assist them in preparing the spreadsheet in the proper format. The Customer Number Upload Spreadsheet may not be used to change the power of attorney for patents or applications.

This information collection includes the information necessary to submit a request to grant or revoke power of attorney for a patent application and for a registered practitioner to withdraw as attorney or agent of record for a patent application. This collection also includes the information necessary to request a Customer Number and associate a correspondence address or list of practitioners with this Customer Number, to change the correspondence address or practitioners associated with a Customer Number, and to designate or change the correspondence address or fee address for one or more patents or applications by using a Customer Number.

The USPTO is revising a form in this collection, Request for Withdrawal as Attorney or Agent and Change of Correspondence Address (PTO/SB/83), to allow the practitioner requesting withdrawal to certify that proper notice has been given to the client and that all papers and property to which the client is entitled have been delivered. The USPTO is also deleting two items from this collection. The Electronic Power of Attorney Forms (EFS) that were previously included in this collection are being deleted due to the retirement of the USPTO's previous electronic filing system (EFS) software in favor of a new Web-based online submission system (EFS-Web). Instead of having to install and use the separate EFS software, forms and other documents may be uploaded and submitted online directly through the USPTO Web site. In addition, the Customer Upload Spreadsheet for PCT Applications is being deleted from this collection because it is no longer in use. Applicants must instead submit a Request to Update a PCT Application With a Customer Number (PTO-2248) for each PCT application to be associated with a Customer Number.

II. Method of Collection

By mail, facsimile, hand delivery, or electronically to the USPTO.

III. Data

OMB Number: 0651-0035.

Form Number(s): PTO/SB/80/81/82/83/84/122/123/124/125 and PTO-2248.

Type of Review: Revision of a currently approved collection.

Affected Public: Individuals or households; businesses or other for-profits; and not-for-profit institutions.

Estimated Number of Respondents: 568,902 responses per year.

Estimated Time per Response: The USPTO estimates that it will take the public approximately 3 minutes (0.05 hours) to 1.5 hours to submit the information in this collection, including the time to gather the necessary information, prepare the appropriate form or document, and submit the completed request.

Estimated Total Annual Respondent Burden Hours: 33,357 hours per year.

Estimated Total Annual Respondent Cost Burden: $3,040,630 per year. The USPTO expects that Requests for Withdrawal as Attorney or Agent and the petitions in this collection will be prepared by attorneys, while the other items in this collection will be prepared by paraprofessionals. Using the professional rate of $310 per hour for associate attorneys in private firms, the USPTO estimates that the respondent cost burden for submitting the withdrawal requests and the petitions will be $54,250 per year. Using the paraprofessional rate of $90 per hour, the USPTO estimates that the respondent cost burden for submitting the other items in this collection will be $2,986,380 per year. The estimated total respondent cost burden for this collection is $3,040,630 per year.

Item | Estimated time for response | Estimated annual responses | Estimated annual burden hours
Power of Attorney to Prosecute Applications Before the USPTO (PTO/SB/80) | 3 minutes | 3,500 | 175
Power of Attorney and Correspondence Address Indication Form (PTO/SB/81) | 3 minutes | 426,450 | 21,323
Revocation of Power of Attorney with New Power of Attorney and Change of Correspondence Address (PTO/SB/82) | 3 minutes | 1,100 | 55
Request for Withdrawal as Attorney or Agent and Change of Correspondence Address (PTO/SB/83) | 12 minutes | 750 | 150
Authorization to Act in a Representative Capacity (PTO/SB/84) | 3 minutes | 1,350 | 68
Petition Under 37 CFR 1.36(a) to Revoke Power of Attorney by Fewer than All the Applicants | 1 hour | 15 | 15
Petition to Waive 37 CFR 1.32(b)(4) and Grant Power of Attorney by Fewer than All the Applicants | 1 hour | 10 | 10
Change of Correspondence Address for Application or Patent (PTO/SB/122/123) | 3 minutes | 121,727 | 6,086
Request for Customer Number Data Change (PTO/SB/124) | 12 minutes | 2,000 | 400
Request for Customer Number (PTO/SB/125) | 12 minutes | 8,500 | 1,700
Customer Number Upload Spreadsheet | 1 hour and 30 minutes | 2,000 | 3,000
Request to Update a PCT Application with a Customer Number (PTO-2248) | 15 minutes | 1,500 | 375
Total |  | 568,902 | 33,357

Estimated Total Annual Non-hour Respondent Cost Burden: $257,178. There are no maintenance costs associated with this information collection. However, this collection does have annual (non-hour) cost burden in the form of filing fees, recordkeeping costs, capital start-up costs, and postage costs.

The two petitions in this collection have associated filing fees. The filing fee for both the Petition Under 37 CFR 1.36(a) to Revoke Power of Attorney by Fewer than All the Applicants and the Petition to Waive 37 CFR 1.32(b)(4) and Grant Power of Attorney by Fewer than All the Applicants is currently $400 (37 CFR 1.17(f)). Using the $400 fee for these petitions, the USPTO estimates that the total filing fees for this collection would be $10,000 per year.

There are recordkeeping costs associated with submitting forms in this collection electronically through EFS-Web, the USPTO's online filing system. When submitting forms through EFS-Web, the USPTO recommends that customers print and retain a copy of the acknowledgment receipt as evidence of the successful submission. The USPTO estimates that it will take 5 seconds (0.001 hours) to print a copy of the acknowledgment receipt and that approximately 311,796 of the submissions in this collection will be filed online, for a total of approximately 312 hours per year. The USPTO expects that these receipts will be printed by paraprofessionals at an estimated rate of $90 per hour, for a total recordkeeping cost of $28,080 per year.

This collection has capital start-up costs associated with the Customer Number Upload Spreadsheet, which must be submitted to the USPTO on a diskette or CD. This process requires additional supplies, including blank diskettes or recordable CD media and padded envelopes for shipping. The USPTO estimates that the cost of these supplies will be approximately $2 per submission, for a total capital start-up cost of $4,000 per year.

The public may incur postage costs when submitting the information in this collection to the USPTO by mail. The USPTO estimates that the first-class postage cost for a mailed submission will be 83 cents for all items except for the Customer Number Upload Spreadsheet and that approximately 255,106 of the non-spreadsheet items will be submitted to the USPTO by mail. Due to the additional materials required for Customer Number Upload Spreadsheet submissions, including the diskette or CD and cover letter, the USPTO estimates that the average first-class postage cost for a spreadsheet submission will be $1.68. The total estimated postage cost for this collection is $215,098 per year.

The total (non-hour) respondent cost burden for this collection in the form of filing fees, recordkeeping costs, capital start-up costs, and postage costs is estimated to be $257,178 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: June 17, 2008.
Susan K. Fawcett,
Records Officer, USPTO, Office of the Chief Information Officer, Customer Information Services Group, Public Information Services Division.

[FR Doc. E8-14194 Filed 6-23-08; 8:45 am]

BILLING CODE 3510-16-P